UNITED STATES INSTITUTE OF PEACE

Notice of Meeting; Open Session

AGENCY: United States Institute of Peace.

DATE/TIME: Monday, April 25, 2016 (10:00 a.m.-2:00 p.m.)

LOCATION: 2301 Constitution Avenue NW., Washington, DC 20037.

STATUS: Open Session—Portions may be closed pursuant to Subsection (c) of Section 552(b) of Title 5, United States Code, as provided in subsection 1706(h)(3) of the United States Institute of Peace Act, Public Law 98-525.

AGENDA: April 25, 2016 Board Meeting; Approval of Minutes of the One Hundred Fifty-seventh Meeting (October 23, 2015) of the Board of Directors; Chairman's Report; Vice Chairman's Report; President's Report; Reports from USIP Board Committees; USIP Myanmar Team Presentation; USIP Preventing Electoral Violence Presentation.

CONTACT: Nick Rogacki, Special Assistant to the President, Email: nrogacki@usip.org.

Dated: April 18, 2016.
Nicholas Rogacki,
Special Assistant to the President.

[FR Doc. 2016-09484 Filed 4-22-16; 8:45 am]

BILLING CODE 6820-AR-P